SECURITIES AND EXCHANGE COMMISSION

[Release Nos. IA-2265; IC-26498; File No. S7-03-03]

RIN 3235-AI77

Compliance Programs of Investment Companies

AGENCY: Securities and Exchange Commission.

ACTION: Notice of OMB approval of collections of information.

FOR FURTHER INFORMATION CONTACT: Jamey Basham, Branch Chief, Office of Investment Adviser Regulation, Division of Investment Management, (202) 942-0719, at the Securities and Exchange Commission, 450 Fifth Street, NW., Washington, DC 20549-0506.

SUPPLEMENTARY INFORMATION: The Office of Management and Budget has approved the collection of information requirements contained in Compliance Programs of Investment Companies and Investment Advisers,¹ titled “Rule 206(4)-7,” (OMB Control No. 3235-0585); “Rule 204-2,” (OMB Control No. 3235-0278); and “Rule 38a-1,” (OMB Control No. 3235-0586).

¹ Investment Advisers Act Rel. No. 2204 (Dec. 17, 2003) (68 FR 74714 (Dec. 24, 2003)).

Dated: July 19, 2004.
Margaret H. McFarland,
Deputy Secretary.

[FR Doc. 04-16787 Filed 7-22-04; 8:45 am]

BILLING CODE 8010-01-P